DEPARTMENT OF TRANSPORTATION

Federal Aviation Administration

14 CFR Part 39

[Docket No. FAA-2010-0327; Directorate Identifier 2010-CE-012-AD; Amendment 39-16321; AD 2010-12-01]

RIN 2120-AA64

Airworthiness Directives; Cessna Aircraft Company Model 525A Airplanes

AGENCY: Federal Aviation Administration (FAA), Department of Transportation (DOT).

ACTION: Final rule.

SUMMARY: We are adopting a new airworthiness directive (AD) to supersede AD 2009-24-13, which applies to certain Cessna Aircraft Company (Cessna) Model 525A airplanes. AD 2009-24-13 currently requires you to repetitively inspect the thrust attenuator paddle assemblies for loose and damaged fasteners and for cracks. AD 2009-24-13 also requires you to replace loose or damaged fasteners and replace cracked thrust attenuator paddles found during any inspection. Since we issued AD 2009-24-13, Cessna has developed new design thrust attenuator paddles and universal head rivets as terminating action for the repetitive inspections. Consequently, this AD would retain the requirements of AD 2009-24-13 until replacement of both thrust attenuator paddles and the eight countersunk fasteners with new design thrust attenuator paddles and universal head rivets. We are issuing this AD to detect and correct loose and damaged fasteners and cracks in the thrust attenuator paddles, which could result in in-flight departure of the thrust attenuator paddles. This failure could lead to rudder and elevator damage and result in loss of control.

DATES: This AD becomes effective on July 22, 2010.

On July 22, 2010, the Director of the Federal Register approved the incorporation by reference of Cessna Citation Service Bulletin SB525A-78-02, Revision 1, dated February 5, 2010, listed in this AD.

As of December 15, 2009 (74 FR 62479, November 30, 2009), the Director of the Federal Register approved the incorporation by reference of Cessna Citation Alert Service Letter ASL525A-78-01, Revision 1, dated October 27, 2009, listed in this AD.

ADDRESSES: For service information identified in this AD, contact Cessna Aircraft Company, Product Support, P.O. Box 7706, Wichita, KS 67277; telephone: (316) 517-6000; fax: (316) 517-8500; Internet: http://www.cessna.com.

To view the AD docket, go to U.S. Department of Transportation, Docket Operations, M-30, West Building Ground Floor, Room W12-140, 1200 New Jersey Avenue, SE., Washington, DC 20590, or on the Internet at http://www.regulations.gov. The docket number is FAA-2010-0327; Directorate Identifier 2010-CE-012-AD.

FOR FURTHER INFORMATION CONTACT: T.N. Baktha, Aerospace Engineer, Wichita Aircraft Certification Office (ACO), 1801 Airport Road, Room 100, Wichita, Kansas 67209; telephone: (316) 946-4155; fax: (316) 946-4107.

SUPPLEMENTARY INFORMATION:

Discussion

On March 23, 2010, we issued a proposal to amend part 39 of the Federal Aviation Regulations (14 CFR part 39) to include an AD that would apply to certain Cessna Model 525A airplanes. This proposal was published in the Federal Register as a notice of proposed rulemaking (NPRM) on March 30, 2010 (75 FR 15629). The NPRM proposed to supersede AD 2009-24-13 with a new AD that would retain the requirements of AD 2009-24-13 until replacement of both thrust attenuator paddles and the eight countersunk fasteners with new design thrust attenuator paddles and universal head rivets.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 136 airplanes in the U.S. registry.

We estimate the following costs to do the inspection (retained from AD 2009-24-13):

Labor cost | Parts cost | Total cost per airplane | Total cost on U.S. operators
1 work-hour × $85 per hour = $85 | Not Applicable | $85 | $11,560

We estimate the following costs to do any necessary installation (retained from AD 2009-24-13) of missing/damaged fasteners that will be required based on the results of the inspection. We have no way of determining the number of airplanes that may need this replacement:

Labor cost | Parts cost for two fasteners | Total cost per airplane
2 work-hours × $85 per hour = $170 | $99.90 | $269.90

We estimate the following costs to do any necessary replacement (retained from AD 2009-24-13) of a cracked thrust attenuator paddle that will be required based on the results of the inspection. We have no way of determining the number of airplanes that may need this replacement:

Labor cost | Parts cost (per paddle) | Total cost per airplane
3 work-hours × $85 per hour = $255 | $1,200 | $1,455

We estimate the following costs to do the replacement of both thrust attenuator paddles and the eight countersunk fasteners with new design thrust attenuator paddles and universal head rivets:

Labor cost | Parts cost | Total cost per airplane | Total cost on U.S. operators
5 work-hours × $85 per hour = $425 | $3,464 | $3,889 | $528,904

As determined by the manufacturer, eligible airplanes may qualify for warranty coverage of parts and labor.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2010-0327; Directorate Identifier 2010-CE-012-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-24-13, Amendment 39-16105 (74 FR 62479, November 30, 2009), and adding the following new AD:

2010-12-01 Cessna Aircraft Company: Amendment 39-16321; Docket No. FAA-2010-0327; Directorate Identifier 2010-CE-012-AD.

Effective Date

(a) This AD becomes effective on July 22, 2010.

Affected ADs

(b) This AD supersedes AD 2009-24-13, Amendment 39-16105.

Applicability

(c) This AD applies to Model 525A airplanes, serial numbers 0001 through 0244, that are certificated in any category.

Subject

(d) Air Transport Association of America (ATA) Code 72: Engine.

Unsafe Condition

(e) This AD results from reports of fatigue cracks found in thrust attenuator paddles on Cessna Model 525A airplanes. We are issuing this AD to detect and correct loose and damaged fasteners and cracks in the thrust attenuator paddles, which could result in in-flight departure of the thrust attenuator paddles. This failure could lead to rudder and elevator damage and result in loss of control.

Compliance

(f) To address this problem, you must do the following, unless already done:

Actions | Compliance | Procedures
(1) Visually inspect the left and right thrust attenuator paddle assemblies to determine if there are any missing, loose, or damaged fasteners and to determine if there are any cracks in the paddle | Within the next 60 days after December 15, 2009 (the effective date retained from AD 2009-24-13) or within the next 30 hours time-in-service (TIS) after December 15, 2009 (the effective date retained from AD 2009-24-13), whichever occurs first. Repetitively thereafter inspect at intervals not to exceed 150 hours TIS | Follow Cessna Citation Alert Service Letter ASL525A-78-01, Revision 1, dated October 27, 2009.
(2) If you do not find any cracks in the thrust attenuator paddles during any inspection required in paragraph (f)(1) of this AD, install any missing fasteners, and replace any loose or damaged fasteners | Before further flight after the inspection required in paragraph (f)(1) of this AD. Continue with the repetitive inspections specified in paragraph (f)(1) of this AD | Follow Cessna Citation Alert Service Letter ASL525A-78-01, Revision 1, dated October 27, 2009.
(3) If cracks are found during any inspection required in paragraph (f)(1) of this AD, do a surface eddy current inspection of the thrust attenuator paddles and the fastener hole(s) to determine the length of the cracks(s) | Before further flight after the inspection required in paragraph (f)(1) of this AD in which cracks are found | Follow Cessna Citation Alert Service Letter ASL525A-78-01, Revision 1, dated October 27, 2009.
(4) If the cracks identified in paragraph (f)(3) of this AD meet or exceed the limits specified in paragraph 3 of Cessna Citation Alert Service Letter ASL525A-78-01, Revision 1, dated October 27, 2009, replace the thrust attenuator paddle and attachment hardware, as applicable | (i) If the conditions of paragraph 3.A.(1) of Cessna Citation Alert Service Letter ASL525A-78-01, Revision 1, dated October 27, 2009, are met, replace before further flight after the inspection required in paragraph (f)(3) of this AD. After the replacement, continue with the repetitive inspections specified in paragraph (f)(1) of this AD (ii) If the conditions of paragraph 3.A.(2) of Cessna Citation Alert Service Letter ASL525A-78-01, Revision 1, dated October 27, 2009, are met, replace within the next 150 hours TIS after the inspection required in paragraph (f)(3) of this AD. After the replacement, continue with the repetitive inspections specified in paragraph (f)(1) of this AD | Follow Cessna Citation Alert Service Letter ASL525A-78-01, Revision 1, dated October 27, 2009.
(5) Replace both thrust attenuator paddles | Within the next 300 hours TIS after July 22, 2010 (the effective date of this AD), or within 1 year after July 22, 2010 (the effective date of this AD), whichever occurs first | Follow Cessna Citation Service Bulletin SB525A-78-02, Revision 1, dated February 5, 2010.

(g) The replacement required in paragraph (f)(5) of this AD terminates the repetitive inspection requirement of this AD. This replacement may be done at anytime, but must be done no later than 300 hours TIS after July 22, 2010 (the effective date of this AD), or within 1 year after July 22, 2010 (the effective date of this AD), whichever occurs first.

(h) If, before July 22, 2010 (the effective date of this AD), you have done all the actions in the original issue of Cessna Citation Service Bulletin SB525A-78-02, dated November 13, 2009, then no further action is required by this AD. This is considered “unless already done” credit for this AD action.

Alternative Methods of Compliance (AMOCs)

(i) The Manager, Wichita Aircraft Certification Office (ACO), FAA, has the authority to approve AMOCs for this AD, if requested using the procedures found in 14 CFR 39.19. Send information to Attn: T.N. Baktha, Aerospace Engineer, Wichita ACO, 1801 Airport Road, Room 100, Wichita, Kansas 67209; telephone: (316) 946-4155; fax: (316) 946-4107. Before using any approved AMOC on any airplane to which the AMOC applies, notify your appropriate principal inspector (PI) in the FAA Flight Standards District Office (FSDO), or lacking a PI, your local FSDO.

(j) AMOCs approved for AD 2009-24-13 are approved for this AD.

Material Incorporated by Reference

(l) You must use Cessna Citation Alert Service Letter ASL525A-78-01, Revision 1, dated October 27, 2009, and Cessna Citation Service Bulletin SB525A-78-02, Revision 1, dated February 5, 2010, to do the actions required by this AD, unless the AD specifies otherwise.

(1) The Director of the Federal Register approved the incorporation by reference of Cessna Citation Service Bulletin SB525A-78-02, Revision 1, dated February 5, 2010, under 5 U.S.C. 552(a) and 1 CFR part 51.

(2) On December 15, 2009 (74 FR 62479, November 30, 2009), the Director of the Federal Register approved the incorporation by reference of Cessna Citation Alert Service Letter ASL525A-78-01, Revision 1, dated October 27, 2009.

(3) For service information identified in this AD, contact Cessna Aircraft Company, Product Support, P.O. Box 7706, Wichita, KS 67277; telephone: (316) 517-6000; fax: (316) 517-8500; Internet: http://www.cessna.com.

(4) You may review copies of the service information incorporated by reference for this AD at the FAA, Central Region, Office of the Regional Counsel, 901 Locust, Kansas City, Missouri 64106. For information on the availability of this material at the Central Region, call (816) 329-3768.

(5) You may also review copies of the service information incorporated by reference for this AD at the National Archives and Records Administration (NARA). For information on the availability of this material at NARA, call (202) 741-6030, or go to: http://www.archives.gov/federal_register/code_of_federal_regulations/ibr_locations.html.

Issued in Kansas City, Missouri, on May 26, 2010.
Steven W. Thompson,
Acting Manager, Small Airplane Directorate, Aircraft Certification Service.

[FR Doc. 2010-13139 Filed 6-16-10; 8:45 am]

BILLING CODE 4910-13-P